DEPARTMENT OF HEALTH AND HUMAN SERVICES

Centers for Medicare & Medicaid Services

42 CFR Parts 412 and 413

Medicare Program; Hospital Inpatient Prospective Payment Systems for Acute Care Hospitals; Changes to Medicare Graduate Medical Education Payments for Teaching Hospitals; Changes to Organ Acquisition Payment Policies

Correction

In rule document 2021-27523 beginning on page 73416 in the issue of Monday, December 27, 2021, make the following correction:

§ 413.77 [Corrected]

On page 73513, in the first column, in paragraph (A), in the last line “after <SECTION><SECTNO>; or” should read “after December 27, 2021; or”.

[FR Doc. C1-2021-27523 Filed 1-26-22; 8:45 am]

BILLING CODE 0099-10-D